INTER-AMERICAN FOUNDATION

Sunshine Act Meeting; Inter-American Foundation Meeting of the Board of Directors and Advisory Council

Time and Date: April 24, 2003, 9:30 a.m. to 3 p.m.

Place: Inter-American Foundation, 901 N. Stuart Street, 10th Floor, Arlington, VA 22203.

Status: Open session.

Matters to be Considered

• Approval of the Minutes of the December 2, 2002, Meeting of the Board of Directors

• President's Report

• IAF 2002 Grant Results Report

• Investment Initiative

• Corporate Foundation Network

CONTACT PERSON FOR MORE INFORMATION: Carolyn Karr, General Counsel, (703) 306-4350.

Dated: March 27, 2003.
David Valenzuela,
President, Inter-American Foundation.

[FR Doc. 03-8246 Filed 4-1-03; 2:10 am]

BILLING CODE 7025-01-M